DEPARTMENT OF TRANSPORTATION

Federal Aviation Administration

Notice of Intent To Rule on Request To Release Airport Land at the Laughlin/Bullhead International Airport, Bullhead City, Arizona From Airport Improvement Program Grant Obligations and Assurances

AGENCY: Federal Aviation Administration (FAA), DOT.

ACTION: Notice of Intent to Rule on Request to Release Airport Land from certain Airport Improvement Program Grant Obligations and Assurances.

SUMMARY: The FAA proposes to rule and invites public comment on the release of approximately 83 acres of land at the Laughlin/Bullhead International Airport, Bullhead City, Arizona, from certain Airport Improvement Program grant obligations and assurances. The purpose of the grant release is to permit the use of approximately 83 acres of airport property to be developed for non-aeronautical purposes.

DATES: Comments must be received on or before February 4, 2002.

ADDRESSES: Comments on this application may be mailed or delivered in triplicate to the FAA at the following address: Federal Aviation Administration, Airports Division, P.O. Box 92007, Los Angeles, CA 90009. In addition, one copy of any comments submitted to the FAA must be mailed or delivered to Mr. Norman Hicks, Executive Director/C.E.O., Mohave County, Airport Authority, Inc., 2550 Laughlin View Drive, Suite 117, Bullhead City, AZ 86429.

FOR FURTHER INFORMATION CONTACT: Mr. Kevin Flynn, Supervisor, Arizona Standards Section, Airports Division, AWP-623, P.O. Box 92007, Los Angeles, CA 90009, Telephone: (310) 725-3632. Arrangements may be made with Mr. Flynn to review the request to release the subject airport property from certain grant obligations in person at the FAA Western-Pacific Regional office, 15000 Aviation Blvd., Hawthorne, CA 90250.

SUPPLEMENTARY INFORMATION: On April 5, 2000, new authorizing legislation became effective. That bill, the Wendell H. Ford Aviation Investment and Reform Act for the 21st Century (AIR 21), Public Law 10-181 (Apr. 5, 2000; 114 Stat. 61), requires that a 30-day public notice must be provided before the Secretary may waive any condition imposed on an interest is surplus property.

The following is a brief overview of the request:

On February 18, 1987, the State of Arizona, granted patent No. 7213 to Mohave County, Arizona, for 433.37 acres to be developed as a public use airport. Since 1987, the Mohave County Airport Authority, Inc. has received Airport Improvement Program (AIP) grants, which contain certain grant obligations and assurances that the airport land be dedicated for aeronautical purposes. The Mohave County Airport Authority, Inc. has requested the release of approximately 83 acres of dedicated airport land from certain AIP grant obligations and assurances at the Laughlin/Bullhead International Airport located in Bullhead City Arizona. The purpose of the release is to permit the use of dedicated airport property for non-aeronautical purposes. Net proceeds from the leasing and development of the subject land will be utilized by the Authority for capital improvements, operation, and maintenance at the Laughlin/Bullhead International Airport.

Issued in Hawthorne, California, on December 19, 2001.
Herman C. Bliss,
Manager, Airports Division, Western-Pacific Region.

[FR Doc. 02-56 Filed 1-2-02; 8:45 am]

BILLING CODE 4910-13-M